DEPARTMENT OF TRANSPORTATION

Federal Aviation Administration

14 CFR Part 39

[Docket No. 2001-NM-348-AD; Amendment 39-12863; AD 2002-16-24]

RIN 2120-AA64

Airworthiness Directives; Airbus Model A300 B4-600, B4-600R, and F4-600R (Collectively Called A300-600) Series Airplanes; and Model A310 Series Airplanes

AGENCY: Federal Aviation Administration, DOT.

ACTION: Final rule.

SUMMARY: This amendment adopts a new airworthiness directive (AD), applicable to certain Airbus Model A300-600 and A310 series airplanes, that requires replacement of certain symbol generator units (SGUs) in the electronic flight instrument system with new, improved SGUs, and modification of associated equipment and wiring. This action is necessary to ensure that the flightcrew has adequate flight information by preventing temporary loss of data from the primary flight and navigation displays. Inadequate flight information could result in reduced situational awareness for the flightcrew, which could contribute to loss of control or impact with obstacles or terrain. This action is intended to address the identified unsafe condition.

DATES: Effective September 23, 2002.

The incorporation by reference of certain publications listed in the regulations is approved by the Director of the Federal Register as of September 23, 2002.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Tom Groves, Aerospace Engineer, International Branch, ANM-116, FAA, Transport Airplane Directorate, 1601 Lind Avenue, SW., Renton, Washington 98055-4056; telephone (425) 227-1503; fax (425) 227-1149.

SUPPLEMENTARY INFORMATION: A proposal to amend part 39 of the Federal Aviation Regulations (14 CFR part 39) to include an airworthiness directive (AD) that is applicable to certain Airbus Model A300-600 and A310 series airplanes was published in the Federal Register on April 3, 2002 (67 FR 15762). That action proposed to require replacement of certain symbol generator units (SGUs) in the electronic flight instrument system with new, improved SGUs, and modification of associated equipment and wiring.

Comments

Interested persons have been afforded an opportunity to participate in the making of this amendment. Due consideration has been given to the comments received.

Request To Revise Cost Estimate

The Air Transport Association (ATA) of America, on behalf of its members, generally supports the intent of the proposed AD. However, one commenter has suggested revising the cost estimate specified in the proposed AD. These comments and FAA responses are as follows:

• The commenter states that, although the proposed AD specifies a labor rate of $60 per hour, the commenter's labor rate is $98 per hour.

We point out that our estimate of $60 per work hour is the current burdened labor rate established for use by the Office of Aviation Policy, Plans, and Management Analysis. (The burdened labor rate includes the actual labor cost, overhead, administrative expenses, etc.) Because the labor rate used in our calculations accounts for the variations in costs among those in the airline industry, we consider that $60 per work hour is appropriate. No change to the final rule is necessary in this regard.

• The commenter considers that 7 instead of the 4 work hours cited in the proposed AD is needed to accomplish the actions specified in Airbus Service Bulletin A300-34-6132, dated May 17, 2001 (which is referenced in the proposed AD as an appropriate source of service information). The commenter also considers that the cost estimate in the proposed AD of $710 per airplane for labor and parts is significantly underestimated. The commenter also states that Airbus Service Bulletin A300-34-6132 references Thompson-CSF Sextant (also referred to as Thales) Service Bulletin 961266-34-038, which specifies 8 work hours for shop labor per each SGU, or $2,352 per airplane; and shop materials at $2,126 per each SGU, or $6,380 for three SGUs per airplane.

We partially concur with these comments. First, we point out that our estimate of 4 work hours, as specified in the proposed AD, is based on the estimate specified in Airbus Service Bulletin A300-34-6132. However, we agree that it is necessary to include additional costs for the bench modification. Those costs are included in the Thompson-CSF Sextant service bulletin, which specifies 1 work hour per SGU to perform the bench modification, for a total of 3 work hours for each airplane. We do not agree with the commenter's estimate of 8 work hours per SGU for the bench modification because no substantiation was provided for such a figure. The cost analysis in AD rulemaking actions typically does not include incidental costs, such as the time required to gain access and close up; planning time; or time necessitated by other administrative actions. Because incidental costs may vary significantly from operator to operator, they are almost impossible to calculate.

Second, we agree that the cost estimate of $710 per airplane should be increased, based on additional costs for the bench modification. Although we inadvertently failed to include the costs for the bench modification in the proposed AD, that action was part of the modification action required by the proposed AD. We note that the Thompson-CSF Sextant service bulletin is referenced in Airbus Service Bulletins A310-34-2157 (which is referenced in the proposed AD as an appropriate source of service information) and A300-34-6132 as an additional source of service information.

Based on this information, we have revised the cost estimate in the final rule to specify 7 instead of 4 work hours and to include an additional $6,810 for shop materials. In addition, we have added a new Note 2 to the final rule to specify the Thompson-CSF Sextant service bulletin as an additional source of service information, and have renumbered the succeeding notes accordingly.

Request To Revise Paragraph (a) of Proposed AD

One commenter states that the “Replacement and Modification section,” paragraph (a) of the proposed AD, is obsolete. The commenter adds that, although paragraph (a) of the proposed AD requires installing SGU part number (P/N) 9612660321, that P/N was recently removed from the Illustrated Parts Catalog and replaced by P/N 9612660420.

We do not agree that the replacement and modification action is obsolete for the airplanes cited in the applicability of the proposed AD. We point out that the airplanes operated by the commenter, United Parcel Service (UPS) Airlines, incorporate Airbus Industrie Modification 12100. As noted in the applicability of the NPRM, airplanes incorporating Airbus Industrie Modification 12100 are not included in the applicability. We also point out that (P/N) 9612660420 is unique to the UPS Airlines airplanes that have incorporated Airbus Modification 12100, and that P/N 9612660420 is specified in their customized Illustrated Parts Catalog. In light of this, no change to the final rule is necessary in this regard.

Conclusion

After careful review of the available data, including the comments noted above, the FAA has determined that air safety and the public interest require the adoption of the rule with the changes described previously. The FAA has determined that these changes will neither increase the economic burden on any operator nor increase the scope of the AD.

Cost Impact

The FAA estimates that 142 airplanes of U.S. registry will be affected by this AD. We estimate that it will take approximately 7 work hours per airplane to accomplish the required SGU replacement and modification of associated equipment and wiring (including the bench modification), and that the average labor rate is $60 per work hour. Required parts will cost approximately $7,280 per airplane (including the kit modification). Based on these figures, the cost impact of the AD on U.S. operators is estimated to be $1,093,400, or $7,700 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-16-24 Airbus Industrie: Amendment 39-12863. Docket 2001-NM-348-AD.

Applicability: Model A300 B4-600, B4-600R, and F4-600R (collectively called A300-600) series airplanes; and Model A310 series airplanes; certificated in any category; except those on which Airbus Service Bulletin A300-34-6132 or A310-34-2157, both dated May 17, 2001 (Airbus Industrie Modification 12100 or 12291), has been accomplished.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To ensure that the flightcrew has adequate flight information by preventing temporary loss of data from the primary flight and navigation displays, accomplish the following:

Replacement and Modification

(a) Within 3 years after the effective date of this AD, replace all symbol generator units (SGUs), part number (P/N) 9612660319, in the electronic flight instrument system, with new, improved SGUs, P/N 9612660321, and modify associated equipment and wiring, according to Airbus Service Bulletin A300-34-6132 (for Model A300-600 series airplanes) or A310-34-2157 (for Model A310 series airplanes), both dated May 17, 2001, as applicable.

Note 2: Airbus Service Bulletin A300-34-6132 or A310-34-2157, both dated May 17, 2001, references Thompson-CSF Sextant Service Bulletin 961266-34-038 as an additional source of service information for accomplishment of the modification.

Alternative Methods of Compliance

(b) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(c) Special flight permits may be issued in accordance with sections 21.197 and 21.199 of the Federal Aviation Regulations (14 CFR 21.197 and 21.199) to operate the airplane to a location where the requirements of this AD can be accomplished.

Incorporation by Reference

(d) The actions shall be done in accordance with Airbus Service Bulletin A300-34-6132, dated May 17, 2001; or Airbus Service Bulletin A310-34-2157, dated May 17, 2001; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directive 2001-467(B), dated October 3, 2001.

Effective Date

(e) This amendment becomes effective on September 23, 2002.

Issued in Renton, Washington, on August 9, 2002.
Vi Lipski,
Manager, Transport Airplane Directorate, Aircraft Certification Service.

[FR Doc. 02-20708 Filed 8-16-02; 8:45 am]

BILLING CODE 4910-13-P